DEPARTMENT OF HOMELAND SECURITY

Federal Emergency Management Agency

[Docket ID FEMA-2016-0002; Internal Agency Docket No. FEMA-B-1550]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before May 11, 2016.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1550, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. For communities with multiple ongoing Preliminary studies, the studies can be identified by the unique project number and Preliminary FIRM date listed in the tables. Additionally, the current effective FIRM and FIS report for each community are accessible online through the FEMA Map Service Center at www.msc.fema.gov for comparison.

(Catalog of Federal Domestic Assistance No. 97.022, “Flood Insurance.”)

Dated: January 22, 2016.
Roy E. Wright,
Deputy Associate Administrator for Insurance and Mitigation, Department of Homeland Security, Federal Emergency Management Agency.

I. Watershed-based studies:

Community | Community map repository address
Quinnipiac Watershed
Maps Available for Inspection Online at: http://www.fema.gov/preliminaryfloodhazarddata
Hartford County, Connecticut (All Jurisdictions)
City of Bristol | Engineering Division, 111 North Main Street, Bristol, CT 06010.
City of New Britain | Public Works Department, 27 West Main Street, Room 501, New Britain, CT 06051.
Town of Plainville | Office of Technical Services, One Central Square, Plainville, CT 06062.
Town of Southington | Planning Department, 196 North Main Street, Southington, CT 06489.
New Haven County, Connecticut (All Jurisdictions)
City of Ansonia | Town and City Clerk's Office, 253 Main Street, Ansonia, CT 06401.
City of Derby | Building Department, One Elizabeth Street, Derby, CT 06418.
City of Meriden | City Clerk's Office, 142 East Main Street, Meriden, CT 06450.
City of Milford | Parsons Government Center, 70 West River Street, Milford, CT 06460.
Town of Branford | Engineering Department, 1019 Main Street, Branford, CT 06405.
Town of Cheshire | Town Clerk's Office, 84 South Main Street, Cheshire, CT 06410.
Town of East Haven | Engineering Department, 461 North High Street, East Haven, CT 06512.
Town of Hamden | Planning and Zoning Department, 2750 Dixwell Avenue, Hamden, CT 06518.
Town of North Branford | Engineering Department, 909 Foxon Road, North Branford, CT 06471.
Town of North Haven | Town Clerk's Office, 18 Church Street, North Haven, CT 06473.
Town of Orange | Public Works Department, 617 Orange Center Road, Orange, CT 06477.
Town of Wallingford | Planning Department, 45 South Main Street, Wallingford, CT 06492.
Town of Woodbridge | Town Clerk's Office, 11 Meetinghouse Lane, Woodbridge, CT 06525.
Lower Catawba Watershed
Maps Available for Inspection Online at: http://www.fema.gov/preliminaryfloodhazarddata
Chester County, South Carolina, and Incorporated Areas
Unincorporated Areas of Chester County | Chester County Government Complex, 1476 J.A. Cochran Bypass, Suite 63, Chester, SC 29706.
Lancaster County, South Carolina, and Incorporated Areas
City of Lancaster | City Hall, 216 South Catawba Street, Lancaster, SC 29720.
Unincorporated Areas of Lancaster County | Lancaster County Zoning Department, 101 North Main Street, Lancaster, SC 29720.
York County, South Carolina, and Incorporated Areas
City of Rock Hill | City Hall, 155 Johnston Street, Rock Hill, SC 29731.
Town of Fort Mill | Engineering Department, 131 East Elliott Street, Fort Mill, SC 29715.
Unincorporated Areas of York County | York County Planning and Development Services Department, 1070 Heckle Boulevard, Building 107, Rock Hill, SC 29732.

II. Non-watershed-based studies:

Community | Community map repository address
Horry County, South Carolina, and Incorporated Areas
Maps Available for Inspection Online at: http://www.fema.gov/preliminaryfloodhazarddata
Project: MICS_18448 Preliminary Date: September 11, 2015
City of Conway | Building Department, 206 Laurel Street, Conway, SC 29526.
City of Loris | City Hall, 4101 Walnut Street, Loris, SC 29569.
City of Myrtle Beach | City Services Building, 921 North Oak Street, Myrtle Beach, SC 29577.
City of North Myrtle Beach | Planning and Development Department, 1018 Second Avenue South, North Myrtle Beach, SC 29582.
Town of Atlantic Beach | Town Hall, 717 30th Avenue South, Atlantic Beach, SC 29582.
Town of Briarcliffe Acres | Briarcliffe Acres Town Office, 121 North Gate Road, Myrtle Beach, SC 29572.
Town of Surfside Beach | Planning, Building and Zoning Department, 115 US Highway 17 North, Surfside Beach, SC 29575.
Unincorporated Areas of Horry County | Horry County Code Enforcement Office, 1301 Second Avenue, Suite 1D09, Conway, SC 29526.

[FR Doc. 2016-02747 Filed 2-10-16; 8:45 am]

BILLING CODE 9110-12-P